ENVIRONMENTAL PROTECTION AGENCY

[FRL-9964-75-OA]

Notification of a Closed Meeting of the Science Advisory Board's 2017 Scientific and Technological Achievement Awards Committee and Closed Meeting of the Science Advisory Board

AGENCY: Environmental Protection Agency (EPA).

ACTION: Notice.

SUMMARY: The Environmental Protection Agency's (EPA) Science Advisory Board (SAB) Staff Office announces a meeting of the SAB's 2017 Scientific and Technological Achievement Awards (STAA) Committee and a meeting of the chartered SAB to develop and review recommendations for recognition under the Agency's 2017 STAA program. These meetings are closed to the public.

DATES: The STAA Committee meeting will be held Wednesday, July 19, 2017, from 8:00 a.m. to 6:00 p.m. and Thursday, July 20, 2017, from 8:00 a.m. to 3:00 p.m. (Eastern Time). The chartered SAB meeting will be held Friday, September 15, 2017, from 10:00 a.m. to 11:30 a.m. (Eastern Time). The meetings will be closed to the public.

ADDRESSES: The STAA Committee meeting will be held at the Melrose Georgetown Hotel, 2430 Pennsylvania Avenue NW., Washington, DC 20037. The chartered SAB meeting will be held in the Washington, DC metro area, and an agenda with the final location will be posted on the SAB Web site at http://www.epa.gov/sab.

FOR FURTHER INFORMATION CONTACT: Members of the public who wish to obtain further information regarding the STAA Committee meeting may contact Edward Hanlon, Designated Federal Officer, by telephone: (202) 564-2134 or email at hanlon.edward@epa.gov. Members of the public who wish to obtain further information regarding the chartered SAB meeting may contact Thomas Carpenter, Designated Federal Officer, by telephone: (202) 564-4885 or email at carpenter.thomas@epa.gov. The SAB Mailing address is EPA Science Advisory Board Staff Office (1400R), U.S. Environmental Protection Agency, 1200 Pennsylvania Avenue NW., Washington, DC 20460. General information about the SAB as well as updates concerning the SAB meeting announced in this notice may be found on the SAB Web site at http://www.epa.gov/sab.

SUPPLEMENTARY INFORMATION: Background: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB 2017 STAA Committee will hold a closed meeting to develop recommendations for recipients of the Agency's 2017 STAA program achievement awards and recommendations for improvement of the Agency's STAA program, and the chartered SAB will hold a closed meeting to conduct a review of the SAB 2017 STAA Committee's draft advisory report. Under normal circumstances, a notice of the Committee meeting must be published no later than 15 days before the date of that meeting. Due to unavoidable administrative circumstances, we are publishing this notice with less than 15 days' advance notice for the STAA Committee meeting on July 19 and 20, 2017.

The STAA awards are established to honor and recognize EPA employees who have made outstanding contributions in the advancement of science and technology through their research and development activities, as exhibited in publication of their results in peer reviewed journals. In conducting its review, the SAB considers each nomination in relation to the following four award levels:

• Level I awards are for those who have accomplished an exceptionally high-quality research or technological effort. The awards recognize the creation or general revision of scientific or technological principle or procedure, or a highly significant improvement in the value of a device, activity, program, or service to the public. Awarded research is of national significance or has high impact on a broad area of science/technology. The research has far reaching consequences and is recognizable as a major scientific/technological achievement within its discipline or field of study.

• Level II awards are for those who have accomplished a notably excellent research or technological effort that has qualities and values similar to, but to a lesser degree, than those described under Level I. Awarded research has timely consequences and contributes as an important scientific/technological achievement within its discipline or field of study.

• Level III awards are for those who have accomplished an unusually notable research or technological effort. The awards are for a substantial revision or modification of a scientific/technological principle or procedure, or an important improvement to the value of a device, activity, program, or service to the public. Awarded research relates to a mission or organizational component of the EPA, or significantly affects a relevant area of science/technology.

• Honorable Mention awards acknowledge research efforts that are noteworthy but do not warrant a Level I, II or III award. Honorable Mention applies to research that: (1) May not quite reach the level described for a Level III award; (2) show a promising area of research that the Subcommittee wants to encourage; or (3) show an area of research that the Subcommittees feels is too preliminary to warrant an award recommendation at this time.

The SAB reviews the STAA nomination packages according to the following five evaluation factors:

• The extent to which the work reported in the nominated publication(s) resulted in either new or significantly revised knowledge. The accomplishment is expected to represent an important advancement of scientific knowledge or technology relevant to environmental issues and EPA's mission.

• The extent to which environmental protection has been strengthened or improved, whether of local, national, or international importance.

• The degree to which the research is a product of the originality, creativeness, initiative, and problem-solving ability of the researchers, as well as the level of effort required to produce the results.

• The extent of the beneficial impact of the research and the degree to which the research has been favorably recognized from outside EPA.

• The nature and extent of peer review, including stature and quality of the peer-reviewed journal or the publisher of a book for a review chapter published therein.

I have determined that the meetings of the STAA Committee and chartered SAB will be closed to the public because they are concerned with selecting employees deserving of awards. In making these recommendations, the Agency requires full and frank advice from the SAB. This advice will involve professional judgments on the relative merits of various employees and their respective work. Such personnel matters involve the discussion of information that is of a personal nature and the disclosure of which would be a clearly unwarranted invasion of personal privacy and, therefore, are protected from disclosure by section 10(d) of the Federal Advisory Committee Act (FACA), 5 U.S.C. App. 2, and sections (c)(2) and (c)(6) of the Government in the Sunshine Act, 5 U.S.C. 552b(c)(2) and (6). Minutes of the meetings of the STAA Committee and chartered SAB will be kept and certified by the chair of those meetings.

Dated: June 30, 2017.
E. Scott Pruitt,
Administrator.

[FR Doc. 2017-14338 Filed 7-6-17; 8:45 am]

BILLING CODE 6560-50-P